DEPARTMENT OF VETERANS AFFAIRS

[OMB Control No. 2900-0188]

Agency Information Collection Activity: Claim, Authorization & Invoice for Prosthetic Items & Services

AGENCY: Veterans Health Administration, Department of Veterans Affairs.

ACTION: Notice.

SUMMARY: Veterans Health Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before October 23, 2017.

ADDRESSES: Submit written comments on the collection of information through Federal Docket Management System (FDMS) at www.Regulations.gov or to Brian McCarthy, Veterans Health Administration, Office of Regulatory and Administrative Affairs (10B4), Department of Veterans Affairs, 810 Vermont Avenue NW., Washington, DC 20420 or email to Brian.McCarthy4@va.gov. Please refer to “OMB Control No. 2900-0188” in any correspondence. During the comment period, comments may be viewed online through FDMS.

FOR FURTHER INFORMATION CONTACT: Brian McCarthy at (202) 461-6345.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: U.S.C. 3901-3904 and 1701(6).

Title: Claim, Authorization & Invoice for Prosthetic Items & Services.

OMB Control Number: 2900-0188.

Type of Review: Revision of a currently approved collection.

Abstract: The Department of Veterans Affairs (VA), through its Veterans Health Administration (VHA), administers medical services established by law. Title 38 U.S.C. Section 1701(6) includes prosthetic items within the scope of medical services. Title 38 U.S.C. Sections 3901, 3902, 3903, 3904, and 1162 authorize the Secretary to provide each person eligible for an automobile grant the adaptive equipment deemed necessary to insure that the person will be able to operate the automobile safely, in a manner consistent with the safety of others and to satisfy the applicable standards of licensure established by the state of residency.

Affected Public: Individuals and households.

Estimated Annual Burden:

10-0103—583 hours.

10-1394—1,000 hours.

10-2421—67 hours.

10-2520—47 hours.

10-2914—3,333 hours.

FL 10-90—708 hours.

Estimated Average Burden per Respondent:

10-0103—5 minutes.

10-1394—15 minutes.

10-2421—4 minutes.

10-2520—4 minutes.

10-2914—4 minutes.

FL 10-90—5 minutes.

Frequency of Response: Annually.

Estimated Number of Respondents:

10-0103—7,000.

10-1394—4,000.

10-2421—1,000.

10-2520—700.

10-2914—50,000.

FL 10-90—8,500.

By direction of the Secretary.
Cynthia Harvey-Pryor,
Department Clearance Officer, Office of Quality and Compliance, Department of Veterans Affairs.

[FR Doc. 2017-17691 Filed 8-21-17; 8:45 am]

BILLING CODE 8320-01-P